COORDINATING COUNCIL ON JUVENILE JUSTICE AND DELINQUENCY PREVENTION

[OJP (OJJDP) Docket No. 1581]

Meeting of the Coordinating Council on Juvenile Justice and Delinquency Prevention

AGENCY: Coordinating Council on Juvenile Justice and Delinquency Prevention.

ACTION: Notice of meeting.

SUMMARY: The Coordinating Council on Juvenile Justice and Delinquency Prevention (Council) announces its winter meeting.

DATES: Friday, February 10, 2012 from 10 a.m. to 12:30 p.m.

ADDRESSES: The meeting will take place in the third floor main conference room at the U.S. Department of Justice, Office of Justice Programs, 810 7th St. NW., Washington, DC 20531.

FOR FURTHER INFORMATION CONTACT: Visit the Web site for the Coordinating Council at www.juvenilecouncil.gov or contact Robin Delany-Shabazz, Designated Federal Official, by telephone at (202) 307-9963 [Note: this is not a toll-free telephone number], or by email at Robin.Delany-Shabazz@usdoj.gov or Geroma.Void@usdoj.gov. The meeting is open to the public.

SUPPLEMENTARY INFORMATION: The Coordinating Council on Juvenile Justice and Delinquency Prevention, established pursuant to Section 3(2)A of the Federal Advisory Committee Act (5 U.S.C. app. 2) will meet to carry out its advisory functions under Section 206 of the Juvenile Justice and Delinquency Prevention Act of 2002, 42 U.S.C. 5601, et seq. Documents such as meeting announcements, agendas, minutes, and reports will be available on the Council's Web page, www.juvenilecouncil.gov, where you may also obtain information on the meeting.

Although designated agency representatives may attend, the Council membership is composed of the Attorney General (Chair), the Administrator of the Office of Juvenile Justice and Delinquency Prevention (Vice Chair), the Secretary of Health and Human Services (HHS), the Secretary of Labor, the Secretary of Education, the Secretary of Housing and Urban Development, the Director of the Office of National Drug Control Policy, the Chief Executive Officer of the Corporation for National and Community Service, and the Assistant Secretary of Homeland Security for U.S. Immigration and Customs Enforcement. The nine additional members are appointed by the Speaker of the House of Representatives, the Senate Majority Leader, and the President of the United States. Other federal agencies take part in Council activities including the Departments of Agriculture, Defense, the Interior, and the Substance and Mental Health Services Administration of HHS.

Meeting Agenda

The preliminary agenda for this meeting includes: (a) A presentation on and discussion of the import of the Pathways to Desistance study, research conducted by Dr. Edward Mulvey on serious youth offending; (b) a demonstration by the U. S. Department of Housing and Urban Development and GreatSchools of their initiative to provide evidence-based data to help inform families' decisions about housing and schools; and (c) other agency announcements.

Registration

For security purposes, members of the public who wish to attend the meeting must pre-register online at www.juvenilecouncil.gov no later than Friday, February 3, 2012. Should problems arise with web registration, call Daryel Dunston at (240) 221-4343 or send a request to register to Mr. Dunston. Include name, title, organization or other affiliation, full address and phone, fax and email information and send to his attention either by fax to (301) 945-4295, or by email to ddunston@edjassociates.com. [Note: these are not toll-free telephone numbers.] Additional identification documents may be required. Space is limited.

Note: Photo identification will be required for admission to the meeting.

Written Comments: Interested parties may submit written comments and questions by Friday, February 3, 2012, to Robin Delany-Shabazz, Designated Federal Official for the Coordinating Council on Juvenile Justice and Delinquency Prevention, at Robin.Delany-Shabazz@usdoj.gov. The Coordinating Council on Juvenile Justice and Delinquency Prevention expects that the public statements presented will not repeat previously submitted statements. Written questions from the public may also be invited at the meeting.

Melodee Hanes,
Acting Administrator.

[FR Doc. 2012-1362 Filed 1-23-12; 8:45 am]

BILLING CODE 4410-18-P